Executive Order 13355 of August 27, 2004

Strengthened Management of the Intelligence Community

By the authority vested in me as President by the Constitution and laws of the United States of America, including section 103(c)(8) of the National Security Act of 1947, as amended (Act), and in order to further strengthen the effective conduct of United States intelligence activities and protect the territory, people, and interests of the United States of America, including against terrorist attacks, it is hereby ordered as follows:

Section 1. Strengthening the Authority of the Director of Central Intelligence. The Director of Central Intelligence (Director) shall perform the functions set forth in this order to ensure an enhanced joint, unified national intelligence effort to protect the national security of the United States. Such functions shall be in addition to those assigned to the Director by law, Executive Order, or Presidential directive.

Sec. 2. Strengthened Role in National Intelligence. Executive Order 12333 of December 4, 1981, as amended, is further amended as follows:

(a) Subsection 1.5(a) is amended to read:

“(a)(1) Act as the principal adviser to the President for intelligence matters related to the national security;

“(2) Act as the principal adviser to the National Security Council and Homeland Security Council for intelligence matters related to the national security; and

(b) Subsection 1.5(b) is amended to read:

“(b)(1) Develop such objectives and guidance for the Intelligence Community necessary, in the Director's judgment, to ensure timely and effective collection, processing, analysis, and dissemination of intelligence, of whatever nature and from whatever source derived, concerning current and potential threats to the security of the United States and its interests, and to ensure that the National Foreign Intelligence Program (NFIP) is structured adequately to achieve these requirements; and

“(2) Working with the Intelligence Community, ensure that United States intelligence collection activities are integrated in: (i) collecting against enduring and emerging national security intelligence issues; (ii) maximizing the value to the national security; and (iii) ensuring that all collected data is available to the maximum extent practicable for integration, analysis, and dissemination to those who can act on, add value to, or otherwise apply it to mission needs.”

(c) Subsection 1.5(g) is amended to read:

“(g)(1) Establish common security and access standards for managing and handling intelligence systems, information, and products, with special emphasis on facilitating:

“(A) the fullest and most prompt sharing of information practicable, assigning the highest priority to detecting, preventing, preempting, and disrupting terrorist threats against our homeland, our people, our allies, and our interests; and

“(B) the establishment of interface standards for an interoperable information sharing enterprise that facilitates the automated sharing of intelligence information among agencies within the Intelligence Community.

“(2) (A) Establish, operate, and direct national centers with respect to matters determined by the President for purposes of this subparagraph to be of the highest national security priority, with the functions of analysis and planning (including planning for diplomatic, financial, military, intelligence, homeland security, and law enforcement activities, and integration of such activities among departments and agencies) relating to such matters.

“(B) The countering of terrorism within the United States, or against citizens of the United States, our allies, and our interests abroad, is hereby determined to be a matter of the highest national security priority for purposes of subparagraph (2)(A) of this subsection.”

“(3) Ensure that appropriate agencies and departments have access to and receive all-source intelligence support needed to perform independent, alternative analysis.”

(d) Subsection 1.5(m) is amended to read:

“(m)(1) Establish policies, procedures, and mechanisms that translate intelligence objectives and priorities approved by the President into specific guidance for the Intelligence Community.

“(2) In accordance with objectives and priorities approved by the President, establish collection requirements for the Intelligence Community, determine collection priorities, manage collection tasking, and resolve conflicts in the tasking of national collection assets (except when otherwise directed by the President or when the Secretary of Defense exercises collection tasking authority under plans and arrangements approved by the Secretary of Defense and the Director) of the Intelligence Community.”

“(3) Provide advisory tasking concerning collection of intelligence information to elements of the United States Government that have information collection capabilities and are not organizations within the Intelligence Community.

“(4) The responsibilities in subsections 1.5(m)(2) and (3) apply, to the maximum extent consistent with applicable law, whether information is to be collected inside or outside the United States.”

(e) Subsection 1.6(a) is amended to read:

“(a) The heads of all departments and agencies shall:

“(1) Unless the Director provides otherwise, give the Director access to all foreign intelligence, counterintelligence, and national intelligence, as defined in the Act, that is relevant to transnational terrorist threats and weapons of mass destruction proliferation threats, including such relevant intelligence derived from activities of the FBI, DHS, and any other department or agency, and all other information that is related to the national security or that otherwise is required for the performance of the Director's duties, except such information that is prohibited by law, by the President, or by the Attorney General acting under this order at the direction of the President from being provided to the Director. The Attorney General shall agree to procedures with the Director pursuant to section 3(5)(B) of the Act no later than 90 days after the issuance of this order that ensure the Director receives all such information;

“(2) support the Director in developing the NFIP;

“(3) ensure that any intelligence and operational systems and architectures of their departments and agencies are consistent with national intelligence requirements set by the Director and all applicable information sharing and security guidelines, and information privacy requirements; and

“(4) provide, to the extent permitted by law, subject to the availability of appropriations, and not inconsistent with the mission of the department or agency, such further support to the Director as the Director may request, after consultation with the head of the department or agency, for the performance of the Director's functions.”

Sec. 3. Strengthened Control of Intelligence Funding. Executive Order 12333 is further amended as follows:

(a) Subsections 1.5(n), (o), and (p) are amended to read as follows:

“(n)(1) Develop, determine, and present with the advice of the heads of departments or agencies that have an organization within the Intelligence Community, the annual consolidated NFIP budget. The Director shall be responsible for developing an integrated and balanced national intelligence program that is directly responsive to the national security threats facing the United States. The Director shall submit such budget (accompanied by dissenting views, if any, of the head of a department or agency that has an organization within the Intelligence Community) to the President for approval; and

“(2) Participate in the development by the Secretary of Defense of the annual budgets for the Joint Military Intelligence Program (JMIP) and the Tactical Intelligence and Related Activities (TIARA) Program.

“(o)(1) Transfer, consistent with applicable law and with the approval of the Director of the Office of Management and Budget, funds from an appropriation for the NFIP to another appropriation for the NFIP or to another NFIP component;

“(2) Review, and approve or disapprove, consistent with applicable law, any proposal to: (i) reprogram funds within an appropriation for the NFIP; (ii) transfer funds from an appropriation for the NFIP to an appropriation that is not for the NFIP within the Intelligence Community; or (iii) transfer funds from an appropriation that is not for the NFIP within the Intelligence Community to an appropriation for the NFIP; and

“(3) Monitor and consult with the Secretary of Defense on reprogrammings or transfers of funds within, into, or out of, appropriations for the JMIP and the TIARA Program.

“(p)(1) Monitor implementation and execution of the NFIP budget by the heads of departments or agencies that have an organization within the Intelligence Community, including, as necessary, by conducting program and performance audits and evaluations;

“(2) Monitor implementation of the JMIP and the TIARA Program and advise the Secretary of Defense thereon; and

“(3) After consultation with the heads of relevant departments, report periodically, and not less often than semiannually, to the President on the effectiveness of implementation of the NFIP Program by organizations within the Intelligence Community, for which purpose the heads of departments and agencies shall ensure that the Director has access to programmatic, execution, and other appropriate information.”

Sec. 4. Strengthened Role in Selecting Heads of Intelligence Organizations. With respect to a position that heads an organization within the Intelligence Community:

(a) if the appointment to that position is made by the head of the department or agency or a subordinate thereof, no individual shall be appointed to such position without the concurrence of the Director;

(b) if the appointment to that position is made by the President alone, any recommendation to the President to appoint an individual to that position shall be accompanied by the recommendation of the Director with respect to the proposed appointment; and

(c) if the appointment to that position is made by the President, by and with the advice and consent of the Senate, any recommendation to the President for nomination of an individual for that position shall be accompanied by the recommendation of the Director with respect to the proposed nomination.

Sec. 5. Strengthened Control of Standards and Qualifications. The Director shall issue, after coordination with the heads of departments and agencies with an organization in the Intelligence Community, and not later than 120 days after the date of this order, and thereafter as appropriate, standards and qualifications for persons engaged in the performance of United States intelligence activities, including but not limited to:

(a) standards for training, education, and career development of personnel within organizations in the Intelligence Community, and for ensuring compatible personnel policies and an integrated professional development and education system across the Intelligence Community, including standards that encourage and facilitate service in multiple organizations within the Intelligence Community and make such rotated service a factor to be considered for promotion to senior positions;

(b) standards for attracting and retaining personnel who meet the requirements for effective conduct of intelligence activities;

(c) standards for common personnel security policies among organizations within the Intelligence Community; and

(d) qualifications for assignment of personnel to centers established under section 1.5(g)(2) of Executive Order 12333, as amended by section 2 of this order.

Sec. 6. Technical Corrections. Executive Order 12333 is further amended as follows:

(a) The preamble is amended by, after “amended”, inserting “(Act)”.

(b) Subsection 1.3(a)(4) is amended by, after “governments”, inserting “and organizations”.

(c) Subsection 1.4(a) is amended by, after “needed by the President”, inserting “and, in the performance of Executive functions, the Vice President,”.

(d) Subsection 1.7(c) is amended by striking “the Director of Central Intelligence and” and by striking “their respective” and inserting “its”.

(e) Subsection 1.8(c) is amended by, after “agreed upon”, inserting “by”.

(f) Subsection 1.8(i) is amended by striking “and through” and inserting in lieu thereof “through”.

(g) Subsection 1.10 is amended by:

(i) striking “The Department of the Treasury. The Secretary of the Treasury shall:” and inserting in lieu thereof “The Department of the Treasury and the Department of Homeland Security. The Secretary of the Treasury, with respect to subsections (a), (b), and (c), and the Secretary of Homeland Security with respect to subsection (d), shall:”;

(ii) in subparagraph (d), after “used against the President” inserting “or the Vice President”; and

(iii) in subparagraph (d), striking “the Secretary of the Treasury” both places it appears and inserting in lieu thereof in both places “the Secretary of Homeland Security”.

(h) Subsection 2.4(c)(1) is amended by striking “present of former” and inserting in lieu thereof “present or former”.

(i) Subsection 3.1 is amended by:

(i) striking “as provided in title 50, United States Code, section 413” and inserting in lieu thereof “implemented in accordance with applicable law, including title V of the Act”; and

(ii) striking “section 662 of the Foreign Assistance Act of 1961 as amended (22 U.S.C. 2422), and section 501 of the National Security Act of 1947, as amended (50 U.S.C. 413),” and inserting in lieu thereof “applicable law, including title V of the Act,”.

(j) Subsection 3.4(b) is amended by striking “visably” and inserting in lieu thereof “visibly”.

(k) Subsection 3.4(f) is amended:

(i) after “agencies within the Intelligence Community”, by inserting “, or organizations within the Intelligence Community”;

(ii) in paragraph (8), by striking “Those” and inserting in lieu thereof “The intelligence elements of the Coast Guard and those”; and

(iii) by striking the “and” at the end of paragraph (7), striking the period at the end of paragraph (8) and inserting in lieu thereof “; and”, and adding at the end thereof “(9) National Geospatial-Intelligence Agency”.

Sec. 7. General Provisions.

(a) This order and the amendments made by this order:

(i) shall be implemented in a manner consistent with applicable law and subject to the availability of appropriations;

(ii) shall be implemented in a manner consistent with the authority of the principal officers of the executive departments as heads of their respective departments, including under section 199 of the Revised Statutes (22 U.S.C. 2651), section 201 of the Department of Energy Reorganization Act (42 U.S.C. 7131), section 102(a) of the Homeland Security Act of 2002 (6 U.S.C. 112(a)), and sections 301 of title 5, 113(b) and 162(b) of title 10, 503 of title 28, and 301(b) of title 31, United States Code; and

(iii) shall not be construed to impair or otherwise affect the functions of the Director of the Office of Management and Budget relating to budget, administrative, and legislative proposals.

(b) Nothing in section 4 of this order limits or otherwise affects—

(i) the appointment of an individual to a position made before the date of this order; or

(ii) the power of the President as an appointing authority to terminate an appointment.

(c) Nothing in this order shall be construed to impair or otherwise affect any authority to provide intelligence to the President, the Vice President in the performance of Executive functions, and other officials in the executive branch.

(d) This order and amendments made by this order are intended only to improve the internal management of the Federal Government and are not intended to, and do not, create any rights or benefits, substantive or procedural, enforceable at law or in equity by a party against the United States, its departments, agencies, instrumentalities, or entities, its officers, employees, or agents, or any other person.

B

THE WHITE HOUSE,

August 27, 2004.

[FR Doc. 04-20051

Filed 8-31-04; 8:45 am]

Billing code 3195-01-P